DEPARTMENT OF TRANSPORTATION

National Highway Traffic Safety Administration

[Docket No. NHTSA-2012-0105]

Decision That Certain Nonconforming Motor Vehicles Are Eligible for Importation

AGENCY: National Highway Traffic Safety Administration, Department of Transportation.

ACTION: Grant of Petitions.

SUMMARY: This document announces decisions by NHTSA that certain motor vehicles not originally manufactured to comply with all applicable Federal Motor Vehicle Safety Standards (FMVSS) are eligible for importation into the United States because they are substantially similar to vehicles originally manufactured for sale in the United States and certified by their manufacturers as complying with the safety standards, and they are capable of being readily altered to conform to the standards or because they have safety features that comply with, or are capable of being altered to comply with, all applicable FMVSS.

DATES: These decisions became effective on the dates specified in Annex A.

FOR FURTHER INFORMATION CONTACT: George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and/or sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions.

Comments: No substantive comments were received in response to the subject petitions.

NHTSA Decision: Accordingly, on the basis of the foregoing, NHTSA hereby decides that each motor vehicle listed in Annex A to this notice, which was not originally manufactured to comply with all applicable FMVSS, is either substantially similar to a motor vehicle manufactured for importation into and/or sale in the United States, and certified under 49 U.S.C. 30115, as specified in Annex A, and is capable of being readily altered to conform to all applicable FMVSS or has safety features that comply with, or is capable of being altered to comply with, all applicable Federal Motor Vehicle Safety Standards.

Vehicle Eligibility Number for Subject Vehicles: The importer of a vehicle admissible under any final decision must indicate on the form HS-7 accompanying entry the appropriate vehicle eligibility number indicating that the vehicle is eligible for entry. Vehicle eligibility numbers assigned to vehicles admissible under this decision are specified in Annex A.

Authority: 49 U.S.C. 30141(a)(1)(A), (a)(1)(B) and (b)(1); 49 CFR 593.8; delegations of authority at 49 CFR 1.50 and 501.8.

Issued on: August 30, 2012.
Claude H. Harris,
Director, Office of Vehicle Safety Compliance.

ANNEX A

Nonconforming Motor Vehicles Decided to be Eligible for Importation

1. Docket No. NHTSA-2011-0181

Nonconforming Vehicles: 1999 Volkswagen Bora Passenger Car.

Substantially Similar U.S. Certified Vehicles: 1999 Volkswagen New Jetta Passenger Car.

Notice of Petition

Published at: 77 FR 5303 (February 2, 2012).

Vehicle Eligibility Number: VSP-540 (effective date August 8, 2012).

2. Docket No. NHTSA-2012-0035

Nonconforming Vehicles: 1999-2006 Toyota Land Cruiser IFS 100 Series Multipurpose Passenger Vehicles Manufactured prior to September 1, 2006.

Substantially Similar U.S. Certified Vehicles: 1999-2006 Toyota Land Cruiser IFS 100 Series Multipurpose Passenger Vehicles Manufactured prior to September 1, 2006.

Notice of Petition

Published at: 77 FR 20485 (April 4, 2012).

Vehicle Eligibility Number: VSP-539 (effective date July 27, 2012).

3. Docket No. NHTSA-2012-0040

Nonconforming Vehicles: 2006 Left-Hand Drive Land Rover Range Rover Multipurpose Passenger Vehicles Manufactured prior to September 1, 2006.

Substantially Similar U.S. Certified Vehicles: 2006 Left-Hand Drive Land Rover Range Rover Multipurpose Passenger Vehicles Manufactured prior to September 1, 2006.

Notice of Petition

Published at: 77 FR 24264 (April 23, 2012).

Vehicle Eligibility Number: VSP-538 (effective date August 8, 2012).

4. Docket No. NHTSA-2011-0182

Nonconforming Vehicles: 2000-2003 Kawasaki ZR750 Motorcycles.

Substantially Similar U.S. Certified Vehicles: 2000-2003 Kawasaki ZR750 Motorcycles.

Notice of Petition

Published at: 76 FR 82039 (December 29, 2011).

Vehicle Eligibility Number: VSP-537 (effective date February 22, 2012).

5. Docket No. NHTSA-2011-0158

Nonconforming Vehicles: 2002 Jaguar XJ8 Passenger Cars Manufactured for Sale in the Kuwaiti Market.

Substantially Similar U.S. Certified Vehicles: 2002 Jaguar XJ8 Passenger Cars.

Notice of Petition

Published at: 76 FR 69796 (November 9, 2011).

Vehicle Eligibility Number: VSP-536 (effective date December 20, 2011).

6. Docket No. NHTSA-2011-0113

Nonconforming Vehicles: 2009 Dodge RAM 1500 Laramie Crew Cab Trucks Manufactured for the Mexican Market.

Substantially Similar U.S. Certified Vehicles: 2009 Dodge RAM 1500 Laramie Crew Cab Trucks.

Notice of Petition

Published at: 76 FR 49834 (August 11, 2011).

Vehicle Eligibility Number: VSP-535 (effective date September 21, 2011).

7. Docket No. NHTSA-2012-0031

Nonconforming Vehicles: Right-Hand Drive 2000-2003 Jeep Wrangler Multi-Purpose Passenger Vehicles.

Because there are no substantially similar U.S.-certified version Right-Hand Drive 2000-2003 Jeep Wrangler Multi-Purpose Passenger Vehicles the petitioner sought import eligibility under 49 U.S.C. 30141(a)(1)(B).

Notice of Petition

Published at: 77 FR 17567 (March 26, 2012).

Vehicle Eligibility Number: VCP-50 (effective date July 27, 2012).

8. Docket No. NHTSA-2012-0030

Nonconforming Vehicles: 2005 Ifor Williams LM85G Trailers.

Because there are no substantially similar U.S.-certified version 2005 Ifor Williams LM85G Trailers the petitioner sought import eligibility under 49 U.S.C. 30141(a)(1)(B).

Notice of Petition

Published at: 77 FR 17568 (March 26, 2012).

Vehicle Eligibility Number: VCP-49 (effective date May 7, 2012).

9. Docket No. NHTSA-2011-0157

Nonconforming Vehicles: 1987-1994 ALPINA Burkard Bovensiepen GmbH B11 Sedan Model Passenger Cars.

Because there are no substantially similar U.S.-certified version 1987-1994 ALPINA Burkard Bovensiepen GmbH B11 Sedan Model Passenger Cars the petitioner sought import eligibility under 49 U.S.C. 30141(a)(1)(B).

Notice of Petition

Published at: 76 FR 69323 (November 8, 2011).

Vehicle Eligibility Number: VCP-48 (effective date December 19, 2011).

[FR Doc. 2012-22034 Filed 9-6-12; 8:45 am]

BILLING CODE 4910-59-P